DEPARTMENT OF HEALTH AND HUMAN SERVICES

Administration for Children and Families

[Program Announcement No. ACYF/CB-2001-01]

Announcement of the Availability of Financial Assistance and Request for Applications To Support Adoption Opportunities Demonstration Projects, Child Abuse and Neglect Discretionary Activities, Abandoned Infants Assistance Awards and Projects To Build the Analytical Capacity of State Child Welfare Programs

AGENCY: Administration on Children, Youth and Families (ACYF), ACF, DHHS.

ACTION: Notice.

Statutory Authority Covering Discretionary Grant Programs in This Announcement With the Catalog of Federal Domestic Assistance (CFDA) Numbers

Adoption Opportunities: Title II of the Child Abuse Prevention and Treatment and Adoption Reform Act of 1978, as amended, (42 USC 5111) CFDA: 93.652.

Promoting Safe and Stable Families: Section 430 of title IV-B, Subpart 2, of the Social Security Act, as amended, (42 USC 629) CFDA: 93.556.

Child Abuse and Neglect: Section 104 of the Child Abuse Prevention and Treatment Act, as amended (42 USC 5101 et seq.) CFDA: 93.670.

Abandoned Infants: Section 101 of the Abandoned Infants Assistance Act, as amended (42 USC 670 note) CFDA: 93.551

SUMMARY: The Children's Bureau (CB) within the Administration on Children, Youth and Families (ACYF), Administration for Children and Families (ACF) announces the availability of fiscal year (FY) 2001 funds for competing new Adoption Opportunities Program, Child Abuse and Neglect Discretionary Activities, Abandoned Infants Assistance and projects to build the analytical capacity of state child welfare programs. Funds from the Adoption Opportunities Program are designed to provide support for demonstration projects that facilitate the elimination of barriers to adoption and provide permanent loving homes for children who would benefit from adoption, particularly children with special needs. Discretionary funds from the Promoting Safe and Stable Families Program support research, training and technical assistance and evaluation efforts to preserve families. Funds from the Child Abuse Prevention and Treatment Act support knowledge-building research and service demonstration projects designed to assist and enhance national, State and community efforts to prevent, assess, identify and treat child abuse and neglect. Funds from section 101 of the Abandoned Infants Assistance Act, as amended (42 USC 670 note) are to establish a program of comprehensive service demonstration projects to prevent the abandonment in hospitals of infants and young children, particularly those exposed to a dangerous drug and those with the human immunodeficiency virus or who have been perinatally exposed to the virus.

DATES: The closing time and date for receipt of applications is 4:30 p.m. (Eastern Time Zone) on June 15, 2001.

Note: The program announcement, including all necessary forms can be downloaded and printed from the Children's Bureau web site at www.acf.dhhs.gov/programs/cb. Hard copies of the program announcement may be requested in hard copy by writing or calling the Operations Center (see phone number and address below) or sending an email to cb@lcgnet.com.

FOR FURTHER INFORMATION CONTACT: ACYF Operations Center at: 1815 N. Fort Myer Drive, Suite 300, Arlington, Virginia 22209 or 1-800-351-2293.

SUPPLEMENTARY INFORMATION:

Priority Areas

2001A. Adoption Opportunities

2001A.1 Adoptive Placements for Children in Foster Care

Eligible Applicants: Eligibility is limited to State social service agencies. Due to funding limitations and to generate and financially support the broadest range of issues and approaches, priority will be given to applicants who have not been funded under this priority in previous years. However, applicants previously funded under this priority area will not be precluded from receiving grants.

Project Duration: The projects will be awarded for a project period of 36 months. The initial grant award will be for a 12-month budget period. The award of continuation funding beyond each 12-month budget period will be subject to the availability of funds, satisfactory progress on the part of each grantee, and a determination that continued funding would be in the best interest of the government.

Federal Share of Project Costs: The maximum Federal share of the project is $300,000 per budget period.

Matching or Cost Sharing Requirement: The grantee must provide at least 10 percent of the total approved cost of the project. The total approved cost is the sum of the Federal share and the non-Federal share. Therefore, a project requesting $300,000 per budget period must include a match of at least $33,333 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects To Be Funded: It is anticipated that three projects will be funded.

2001A.2 Field-Initiated Demonstration Projects Advancing the State of the Art in the Adoption Field

Eligible Applicants: States, local government entities, public and private nonprofit licensed child welfare and adoption agencies, and community-based nonprofit adoption organizations which currently work with children in the public child welfare system, and universities with experience in adoptions. Applicants without direct access or responsibility for the targeted children must apply in partnership with States, local government entities, or public or private nonprofit licensed child welfare and adoption agencies.

Project Duration: The projects will be awarded for a project period of 48 months. The initial grant award will be for a 12-month budget period. The award of continuation funding beyond each 12-month budget period will be subject to the availability of funds, satisfactory progress on the part of each grantee, and a determination that continued funding would be in the best interest of the government.

Federal Share of Project Costs: The maximum Federal share of the project is $250,000 per budget period.

Matching or Cost Sharing Requirement: The grantee must provide at least 10 percent of the total approved cost of the project. The total approved cost is the sum of the Federal share and the non-Federal share. Therefore, a project requesting $250,000 per budget period must include a match of at least $27,778 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects To Be Funded: It is anticipated that four projects will be funded.

2001A.3 Quality Improvement Centers on Adoption

Eligible Applicants: Public or private nonprofit agencies, organizations, and institutions of higher learning, alone or in partnerships with child welfare agencies. The Children's Bureau especially encourages partnerships between public agencies and private nonprofit agencies, universities and foundations with adoption experience.

Project Duration: The projects will be awarded for a period of 60 months. The initial grant award will be for a 12-month budget period. The award of continuation funding beyond each 12-month budget period will be subject to the availability of funds, satisfactory progress on the part of the grantee, and a determination that continued funding would be in the best interest of the government.

Federal Share of Project Costs: The maximum Federal share of the project is $175,000 per Quality Improvement Center (QIC) for the first 12 months. Years two through five will be funded at a level of $500,000 per budget period per QIC. The proposed budget allocated by the QIC for administrative, management, and evaluation purposes in years two through five may not exceed $125,000 per year.

Matching or Cost Sharing Requirement: The grantee must provide at least 10 percent of the total administrative approved cost of the project. The total approved administrative cost is the sum of the Federal share and the non-Federal share. Therefore, a project requesting $175,000 for the 12-month planning phase must include a match of at least $19,444. In years two through five, awardees will be required to provide a 10 percent match on the total cost allocated by the QIC for administration, management and evaluation. A project requesting an annual total of $125,000 for these purposes will be required to provide a match of at least $13,889 per year. QIC awardees are not required to provide a 10 percent match on the approximately $350,000 that will be awarded to local sites.

The non-Federal share may be cash or in-kind contributions, although applicants are encouraged to meet their match requirements through cash contributions. If approved for funding, grantees will be held accountable for the commitment of non-Federal resources and failure to provide the required amount will result in a disallowance of unmatched Federal funds.

Anticipated Number of Projects To Be Funded: It is anticipated that four projects will be funded.

2001A.4 Evaluations of Existing Adoption Programs

Eligible Applicants: States, local government entities, public and private nonprofit licensed child welfare and adoption agencies, and community-based nonprofit adoption organizations which currently work with children in the public child welfare system, and universities with experience in adoptions and child welfare issues. Collaborative efforts and interdisciplinary applications are encouraged; however, a primary applicant must be identified.

Project Duration: The projects will be awarded for a project period of 36 months. The initial grant award will be for a 12-month budget period. The award of continuation funding beyond each 12-month budget period will be subject to the availability of funds, satisfactory progress on the part of each grantee, and a determination that continued funding would be in the best interest of the government.

Projects involving evaluations through secondary analysis of existing data may propose a shorter duration.

Federal Share of Project Costs: The maximum Federal share of the project is $100,000 per budget period.

Matching or Cost Sharing Requirement: The grantee must provide at least 10 percent of the total approved cost of the project. The total approved cost is the sum of the Federal share and the non-Federal share. Therefore, a project requesting $100,000 per budget period must include a match of at least $11,111 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects to be Funded: It is anticipated that up to four projects will be funded.

2001B. Child Abuse and Neglect

2001B.1 National Resources Center on Child Maltreatment

Eligible Applicants: Any national, State, local, Tribal, public or private nonprofit agency or organization, including accredited colleges and universities, with demonstrated expertise in the field of child welfare and the prevention, intervention, and treatment of child abuse and neglect.

Project Duration: The project will be awarded for a project period of 24 months. The initial grant award will be for a 12-month budget period. The award of continuation funding beyond the 12-month budget period will be subject to the availability of funds, satisfactory progress on the part of each grantee, and a determination that continued funding would be in the bestr interest of the government.

Federal Share of Project Costs: The grant amount will not exceed $700,000 per year for two years. The dollar amount requested must be fully justified and documented.

Matching Requirement: None.

Anticipated Number of Projects to be Funded: It is anticipated that one project will be funded.

2001B.2 Investigator-Initiated research Projects Advancing the State of the Art in the Child Abuse and Neglect Field

Eligible Applicants: State, local government, public and private nonprofit, community-based nonprofit organizations and universities with experience in the areas of child welfare child maltreatment. Collaborative efforts and interdisplinary applications are encouraged, however, a primary applicant must be identified.

Project Duration: The projects will be awarded for a project of 36 months. The initial grant award will be for a 12-month budget period. The award of continuation funding beyond each 12-month budget period will be subject to the availability of funds, satisfactory progress on the part of each grantee, and a determination that continued funding would be in the best interest of the government.

Projects involving secondary analysis of existing data may propose a shorter duration.

Federal Share of Project Costs: The maximum Federal share of the project is up to $250,000 per budget period.

Matching or Cost Sharing Requirement: There is no matching requirement.

Anticipated Number of Projects To Be Funded: It is anticipated that up to four projects will be funded at the maximum funding level or more than four if applications for lesser amounts are funded.

2001B.3 Field-Initiated Demonstration Projects Advancing the State of the Art in the Child Abuse and Neglect Field

Eligible Applicants: States, local government entities, public and private nonprofit, community-based nonprofit organizations and universities with experience in the areas of child welfare and child maltreatment. Collaborative efforts and interdisciplinary applications are encouraged; however, a primary applicant must be identified.

Project Duration: The projects will be awarded for a project period of 48 months. The initial grant award will be for a 12-month budget period. The award of continuation funding beyond each 12-month budget period will be subject to the availability of funds, satisfactory progress on the part of each grantee, and a determination that continued funding would be in the best interest of the government.

Federal Share of Project Costs: The maximum Federal share of the project is $250,000 per budget period.

Matching or Cost Sharing Requirement: There is no matching requirement.

Anticipated Number of Projects To Be Funded: It is anticipated that four projects will be funded.

2001B.4 Quality Improvement Centers for Child Protective Services

Eligible Applicants: Public or private nonprofit agencies, organizations, and institutions of higher learning, alone or in partnerships with child welfare agencies. The Children's Bureau especially encourages partnerships between public agencies and private nonprofit agencies, universities and foundations with experience in child maltreatment issues.

Project Duration: The projects will be awarded for a period of 60 months. The initial grant award will be for a 12-month budget period. The award of continuation funding beyond each 12-month budget period will be subject to the availability of funds, satisfactory progress on the part of the grantee, and a determination that continued funding would be in the best interest of the government.

Federal Share of Project Costs: The maximum Federal share of the project is $175,000 per QIC for the first 12 months. Years two through five will be funded at a level of $500,000 per budget period per QIC. The proposed budget allocated by the QIC for administrative, management, and evaluation purposes in years two through five may not exceed $125,000 per year.

Matching or Cost Sharing Requirement: The grantee must provide at least 10 percent of the total approved administrative cost of the project. The total approved administrative cost is the sum of the Federal share and the non-Federal share. Therefore, a project requesting $175,000 for the 12-month planning phase must include a match of at least $19,444. In years two through five, awardees will be required to provide a 10 percent match on the total cost allocated by the QIC for administration, management, and evaluation. A project requesting an annual total of $125,000 for these purposes will be required to provide a match of at least $13,889 per year. QIC awardees are not required to provide a 10 percent match on the approximately $350,000 that will be awarded to local sites.

The non-Federal share may be cash or in-kind contributions, although applicants are encouraged to meet their match requirements through cash contributions. If approved for funding, grantees will be held accountable for the commitment of non-Federal resources and failure to provide the required amount will result in a disallowance of unmatched Federal funds.

Anticipated Number of Projects To Be Funded: It is anticipated that four projects will be funded.

2001B.5 Evaluations of Existing Child Abuse and Neglect Programs

Eligible Applicants: Public (State, Tribal, or local) or private nonprofit agencies, organizations, or institutions of higher learning are eligible to apply. Collaborative efforts and interdisciplinary applications are encouraged; however, a primary applicant must be identified.

Project Duration: The projects will be awarded for a project period of 36 months. The initial grant award will be for a 12-month budget period. The award of continuation funding beyond each 12-month budget period will be subject to the availability of funds, satisfactory progress on the part of each grantee, and a determination that continued funding would be in the best interest of the government.

Projects involving secondary analysis of existing data may propose a shorter duration.

Federal Share of Project Costs: The maximum Federal share of the project is $100,000 per budget period.

Matching or Cost Sharing Requirement: There is no matching requirement.

Anticipated Number of Projects To Be Funded: It is anticipated that up to four projects will be funded.

2001C: Abandoned Infants

2001C.1 Support for Previous Comprehensive Service Demonstration Projects

Eligible Applicants: Comprehensive service demonstration projects initially funded in FY 1977. Current grantees applying under this priority are advised that this is a competitive funding process and that applications approved for funding will be given a new grant number. Existing award activities cannot overlap with the new grant's project period, and funds from the currently existing grants cannot be expended for the new grant activities.

Project Duration: The projects will be awarded for a project period of 48 months. The initial grant award will be for a 12-month budget period. The award of continuation funding beyond each 12-month budget period will be subject to the availability of funds, satisfactory progress on the part of the grantee, and a determination that continued funding would be in the best interest of the government.

Federal Share of Project Costs: Grant amounts will vary and range up to $450,000 per budget period per grantee for each of the 4 years.

Matching Requirement: The grantees must provide at least 10 percent of the total approved cost of the project. The total approved cost of the project is the sum of the Federal share and the non-Federal share. The non-Federal share may be met by cash or in-kind contributions, although applicants are encouraged to meet their match requirements through cash contributions. Therefore, a project requesting a total of $450,000 in Federal funds for the first budget period must include a match of at least $50,000 (10 percent of total approved project costs). If approved for funding, grantees will be held accountable for the commitment of non-Federal resources and failure to provide the required amount will result in a disallowance of unmatched Federal funds.

Anticipated Number of Projects To Be Funded: it is anticipated that four projects will be funded.

2001C.2 Support for New Comprehensive Service Demonstration Projects

Eligible Applicants: Any State, local public or nonprofit agency or organization including accredited colleges and universities. Applicants who can apply under this priority area include: (1) Applicants in jurisdictions in which there currently does not exist a program funded under the Abandoned Infants Assistance Program (check the National Abandoned Infants Assistance Resource Center's web site http.//www.socrates.berkeley.edu/~aiarc for a list of current programs); (2) applicants who have previously received funding under the Abandoned Infants Assistance Program but are not currently grantees; and (3) applicants that are currently funded by the Abandoned Infants Assistance Program but are establishing a program in a separate locality serving a different target population, e.g., an agency establishing a program in a different city of establishing a second program in a city with a population over 1,000,000.

Project Duration: The projects will be awarded for a project period of 48 months. The initial grant award will be for a 12-month budget period. The award of continuation funding beyond each 12-month budget period will be subject to the availability of funds, satisfactory progress on the part of the grantee, and a determination that continued funding would be in the best interest of the government.

Federal Share of Project Costs: Grant amount will vary and range up to $450,000 per budget period for each of the 4 years.

Matching Requirement: The grantees must provide at least 10 percent of the total approved cost of the project. The total approved cost of the project is the sum of the ACF share and the non-Federal share. The non-Federal share may be met by cash or in-kind contributions, although applicants are encouraged to meet their match requirements through cash contributions. Therefore, a project requesting a total of $450,000 in Federal funds for the first budget period must include a match of at least $50,000 (10 percent of total approved project costs). If approved for funding, grantees will be held accountable for the commitment of non-Federal resources and failure to provide the required amount will result in a disallowance of unmatched Federal funds.

Anticipated Number of Projects To Be Funded: It is anticipated that four projects will be funded.

2001C.3 Family Support Services for Grandparents and Other Relatives Providing Care for Children of Women Who Are Substance Abusing and HIV Positive

Eligible Applicants: Public agencies and private, nonprofit organizations and institutions of higher education are eligible to apply.

Project Duration: The projects will be awarded for a project period of 48 months. The initial grant award will be for a 12-month budget period. The award of continuation funding beyond each 12-month budget period will be subject to the availability of funds, satisfactory progress on the part of the grantee, and a determination that continued funding would be in the best interest of the government.

Federal Share of Project Costs: Grant amounts will not exceed $100,000 per budget period for each of the 4 years. The dollar amount request must be fully justified and documented.

Matching Requirement: Grantees must provide at least 10 percent of the total approved cost of the project. The total approved cost of the project is the sum of the Federal share and the non-Federal share. The non-Federal share may be met by cash or in-kind contributions, although applicants are encouraged to meet their match requirements through cash contributions. Therefore, a project requesting $100,000 in Federal funds per year must include a match of at least $11,111 (10 percent of approved project costs per budget period). If approved for funding, grantees will be held accountable for the commitment of non-Federal resources and failure to provide the required amount will result in a disallowance of unmatched Federal funds.

Anticipated Number of Projects To Be Funded: It is anticipated that up to three projects will be funded.

2001C.4 Recreational Services for Children Affected by HIV/AIDS

Eligible Applicants: Public agencies and private, nonprofit organizations and institutions of higher education are eligible to apply.

Project Duration: The projects will be awarded for a project period of 48 months. The initial grant award will be for a 12-month budget period. The award of continuation funding beyond each 12-month budget period will be subject to the availability of funds, satisfactory progress on the part of the grantee, and a determination that continued funding would be in the best interest of the government.

Federal Share of Project Costs: Grant amounts will vary from $50,000 to $100,000 per budget period for each of the 4 years. The dollar amount requested must be fully justified and documented.

Matching Requirement: Grantees must provide at least 10 percent of the total approved cost of the project. The total approved cost of the project is the sum of the Federal share and the non-Federal share. The non-Federal share may be met by cash or in-kind contributions, although applicants are encouraged to meet their match requirements through cash contributions. Therefore, a project requesting a total of $100,000 in Federal funds for the first budget period must include a match of at least $11,111 (10 percent of total approved project costs). If approved for funding, grantees will be held accountable for the commitment of non-Federal resources and failure to provide the required amount will result in a disallowance of unmatched Federal funds.

Anticipated Number of Projects To Be Funded: It is anticipated that three projects will be funded.

2001D. Building Analytical Capacity for Child Welfare Programs in the States

2001D.1 Demonstration Sites: Building Analytical Capacity for Child Welfare Programs in the States

Eligible Applicants: Eligibility is limited to States that have not yet developed capacities for data analysis and interpretation to improve decision-making and accountability. Funds will be awarded for building an infrastructure for research and evaluation designed to increase efficiency and effectiveness of State child welfare programs.

Project Duration: The projects will be awarded for a project period of 36 months. The initial grant award will be for a 12-month budget period. The award of continuation funding beyond each 12-month budget period will be subject to the availability of funds, satisfactory progress on the part of each grantee, and a determination that continued funding would be in the best interest of the government.

Federal Share of Project Costs: The maximum Federal share of the project is $250,000 per budget period.

Matching or Cost Sharing Requirement: The grantee must provide at least 10 percent of the total approved cost of the project. The total approved cost is the sum of the Federal share and the non-Federal share. Therefore, a project requesting $250,000 per budget period must include a match of at least $27,778 per budget period. The non-Federal share may be cash or in-kind contributions, although applicants are encouraged to meet their match requirements through cash contributions. If approved for funding, grantees will be held accountable for the commitment of non-Federal resources and failure to provide the required amount will result in a disallowance of unmatched Federal funds.

Anticipated Number of Projects To Be Funded: It is anticipated that four projects will be funded.

2001D.2 Mentor Sites: Building Analytical Capacity for Child Welfare Programs in the States

Eligible Applicants: Eligibility is limited to the States that have already developed capacities, in-house or contractually, for data analysis and interpretation and can serve as mentors for other States that seek to improve data analysis through advanced research and evaluation. Funds will be awarded to the mentor sites for consulting and technical assistance to promote increased efficiency and effectiveness of child welfare programs in States that have not yet developed capacities for advanced data analysis and interpretation.

Project Duration: The projects will be awarded for a project period of 36 months. The initial grant award will be for a 12-month budget period. The award of continuation funding beyond each 12-month budget period will be subject to the availability of funds, satisfactory progress on the part of each grantee, and a determination that continued funding would be in the best interest of the government.

Federal Share of Project Costs: The maximum Federal share of the project is $150,000 per budget period.

Matching or Cost Sharing Requirement: There is not matching requirement.

Anticipated Number of Projects To Be Funded: It is anticipated that four projects will be funded.

Evaluation Criteria

Reviewers will consider the following factors when scoring applications. However, in order to adequately prepare their applications, applicants must refer to the full program announcement for the specific evaluation criteria for each priority area. The points awarded for each criterion vary, depending on the specific priority area.

Criterion 1: Objectives and Need for Assistance. Applications will be judged on the extent to which they clearly specify the purposes and/or strategies of the proposed project and their relationship to legislative authority and child welfare outcomes, as appropriate; the quality of their statement regarding the need for the project; and evidence that the applicant understands current issues and recent developments in the field that may have relevance to the implementation of the project. Applicants must refer to the specific evaluation criteria for each priority area contained in the full Program Announcement in order to adequately prepare their applications. The points awarded for this criterion vary, depending on the specific priority area.

Criterion 2: Approach. Applicants will be judged on the clarity, feasibility, and thoroughness of their description of the approach that they intend to use in implementing proposed projects. The approach sections will be expected to include, as appropriate, information on barriers to implementation and proposed solutions to those barriers; necessary collaborations with other organizations and agencies and their respective roles; evaluation plans; reporting requirements; and staffing plans. Applicants must refer to the specific evaluation criteria for each priority area contained in the full Program Announcement in order to adequately prepare their applications. The points awarded for this criterion vary, depending on the specific priority area.

Criterion 3: Organizational Profiles. Applicants will be judged on the experience and demonstrated competence of staff who are proposed to implement the project and, as appropriate, the experience of the organization in implementing related projects. Applicants must refer to the specific evaluation criteria for each priority area contained in the full Program Announcement in order to adequately prepare their applications. The points awarded for this criterion vary, depending on the specific priority area.

Criterion 4: Budget and budget justification. Applicants will be judged on the adequacy, reasonableness, and completeness of their budget requests to support their proposed projects, including their management plans to control and account for expenditure of project funds. Applicants must refer to the specific evaluation criteria for each priority area contained in the full Program Announcement in order to adequately prepare their applications. The points awarded for this criterion vary, depending on the specific priority area.

Required Notification of the Single Point of Contact

Most portions of this program are covered under Executive Order 12372, Intergovernmental Review of Federal Programs, and 45 CFR part 100, Intergovernmental Review of Department of Health and Human Services program and Activities. Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington, and Wyoming have elected to participate in the Executive Order process and have established Single Points of Contact (SPOCs). Applicants from these jurisdictions need take no action regarding Executive Order 12372. Applicants for projects to be administered by Federally-recognized Indian Tribes are also exempt from the requirements of Executive Order 12372. Applicants to the Adoption Opportunities program are also exempt from the requirements of Executive Order 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the accommodate or explain rule. A list of the Single Points of Contact for each State and Territory can be found on line at http://www.whitehouse.gov/omb/grants/spoc.html.

Dated: April 25, 2001.
Gail E. Collins,
Acting Deputy Commissioner, Administration on Children, Youth and Families.

[FR Doc. 01-10792 Filed 4-30-01; 8:45 am]

BILLING CODE 4184-01-M